DEPARTMENT OF EDUCATION

[CFDA No.: 84.133F]

Office of Special Education and Rehabilitative Services; National Institute on Disability and Rehabilitation Research—Research Fellowships Program; Notice Inviting Applications for New Awards for Fiscal Year (FY) 2003

Purpose of the Program: The purpose of the Fellowships Program is to build research capacity by providing support to highly qualified individuals, including those who are individuals with disabilities, to conduct research about the rehabilitation of individuals with disabilities. Fellows may conduct original research in any area authorized by section 204 of the Rehabilitation Act of 1973, as amended. Fellows must address problems encountered by individuals in their daily lives that are due to the presence of a disabling condition, problems associated with the provision of rehabilitation services to individuals with disabilities, and problems connected with the conduct of disability research.

The program provides two categories of fellowships: Merit Fellowships and Distinguished Fellowships.

(a) To be eligible for a Distinguished Fellowship, an individual must have seven or more years of research experience in subject areas, methods, or techniques relevant to rehabilitation research and must have a doctorate, other terminal degree, or comparable academic qualifications.

(b) To be eligible for a Merit Fellowship, an individual must have either advanced professional training or independent study experience in an area that is directly pertinent to disability and rehabilitation.

Applicants are not required to submit a budget with their proposal. These are one Full Time Equivalent (FTE) awards. The applicant must work principally on the fellowship during the year. We define one FTE as equal to 40 hours per week. The applicant cannot receive support through any other Federal Government grants during this period.

Eligible Applicants: Only individuals who have training and experience that indicate a potential for engaging in scientific research related to the solution of rehabilitation problems of individuals with disabilities are eligible.

Note: Institutions are not eligible to be recipients of Fellowships.

Deadline for Transmittal of Applications: October 15, 2002.

Applications Available: August 16, 2002.

Maximum Award Amount: Merit: $45,000; Distinguished: $55,000.

Estimated Number of Awards: 10.

Note: The Department is not bound by any estimates in this notice.

Project Period: 12 months.

Page Limitation: The application must be limited to no more than 24 pages double spaced.

Note: The Secretary will reject without consideration or evaluation any application for a Research Fellowship that does not adhere to the 24 pages double spaced limit.

Applicable Regulations: The Education Department General Administrative Regulations (EDGAR), 34 CFR parts 74, 75, 77, 81, 82, 85, 86, and 97; and 34 CFR part 356, Disability and Rehabilitation Research Fellowships.

Note: Applicants need to put their Social Security Number in Block #2 on the 424 form in place of the DUNS Number.

SUPPLEMENTARY INFORMATION: This priority reflects issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

Selection Criteria

In evaluating an application for a new grant under this competition, we use selection criteria chosen from the selection criteria in 34 CFR part 356. The selection criteria to be used for this competition will be provided in the application package for this competition.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Instructions for transmitting applications will be provided in the application package.

Pilot Project for Electronic Submission of Applications

In FY 2003, the U.S. Department of Education is continuing to expand its pilot project of electronic submission of applications to include additional formula grant programs and additional discretionary grant competitions. The Research Fellowships Program—CFDA 84.133F is one of the programs included in the pilot project. If you are an applicant under the Research Fellowships Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• Do not wait until the deadline date for the transmittal of applications to submit your application electronically. If you wait until the deadline date to submit your application electronically and you are unable to access the e-APPLICATION system, you must contact the Help Desk by 4:30 p.m. Washington DC time on the deadline date.

• Keep in mind that e-APPLICATION is not operational 24 hours a day every day of the week. Click on Hours of Web Site Operation for specific hours of access during the week.

• You will have access to the e-APPLICATION Help Desk for technical support: 1-888-336-8930 (TTY: 1-866-697-2696, local 202-401-8363). The Help Desk hours of operation are limited to: 8 a.m.-6 p.m. Washington DC time Monday-Friday.

• If you submit your application electronically by the transmittal date but also wish to submit a paper copy of your application, then you must mail the paper copy of the application on or before the deadline date to: U.S. Department of Education, Application Control Center, Attention: CFDA # 84.133F, 7th and D Streets, SW., Room 3671, Regional Office Building 3, Washington, DC 20202-4725.

• You can submit all documents electronically, including the Application for Federal Assistance (ED 424 Standard Face Sheet), Budget Information—Non-Construction Programs (ED 524), and all necessary assurances and certifications.

• Within three working days of submitting your electronic application, fax a signed copy of the Application for Federal Assistance (ED 424 Standard Face Sheet) to the Application Control Center after following these steps:

1. Print ED 424 from the e-APPLICATION system.

2. Make sure that you sign the form as the institution's Authorizing Representative.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Research Fellowships Program at: http://e-grants.ed.gov.

We have included additional information about the e-APPLICATION pilot project (see Parity Guidelines between Paper and Electronic Applications) in the application package.

For Applications Contact

Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs via its Web site: http://www.ed.gov/pubs/edpubs.html or its e-mail address (edpubs@inet.ed.gov). If you request an application from ED Pubs, be sure to identify this competition as follows: CFDA number 84.133F.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Services (FIRS) at 1-800-877-8339. However, the Department is not able to reproduce in an alternative format the standard forms included in the application package.

FOR FURTHER INFORMATION CONTACT: Donna Nangle, U.S. Department of Education, 400 Maryland Avenue, SW., room 3412, Switzer Building, Washington, DC 20202-2645. Telephone: (202) 205-5880 or via Internet: Donna.Nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 762(e).

Dated: August 13, 2002.
Loretta Petty Chittum,
Acting Assistant Secretary for Special Education and Rehabilitative Services.

[FR Doc. 02-20910 Filed 8-15-02; 8:45 am]

BILLING CODE 4000-01-P